DEPARTMENT OF AGRICULTURE

Forest Service

Solicitation of Nominations for Membership for the Pacific Northwest Region Recreation Resource Advisory Committee

AGENCY: Forest Service, Agriculture (USDA).

ACTION: Solicitation of nominations for membership.

SUMMARY: The United States Department of Agriculture is seeking nominations for the Pacific Northwest Region Recreation Resource Advisory Committee (Pacific Northwest Region Recreation RAC) pursuant to the authority of the Federal Lands Recreation Enhancement Act and the Federal Advisory Committee Act (FACA), as amended. The Pacific Northwest Region Recreation RAC will provide recommendations to the Secretary of Agriculture on recreation fees on lands and waters managed by the Forest Service and the Department of the Interior's Bureau of Land Management in the regions covered by each committee. The Pacific Northwest Region Recreation RAC will be governed by the provisions of FACA. Duration of the Pacific Northwest Region Recreation RAC is for two years unless renewed by the Secretary.

DATES: Nominations must be submitted via email or postmarked by June 28, 2024.

ADDRESSES: Nominations and resumes may be submitted to the Secretary of Agriculture through the Forest Service Recreation Resource Advisory Committee, Pacific Northwest Regional Office, Edith Green—Wendell Wyatt Federal Building, 1220 SW 3rd Ave., Portland, OR 97204 or via email to sm.fs.r6_rrac@usda.gov.

FOR FURTHER INFORMATION CONTACT: Inquiries may be sent to Nicole LaGioia, Recreation Resource Advisory Committee, Pacific Northwest Region, Pacific Northwest Regional Office, Edith Green—Wendell Wyatt Federal Building, 1220 SW 3rd Ave., Portland, OR 97204; by phone at 360-765-2227 or via email to sm.fs.r6_rrac@usda.gov.

SUPPLEMENTARY INFORMATION: Pursuant to Federal Lands Recreation Enhancement Act (Pub. L. 108-447) and the Federal Advisory Committee Act (5 U.S.C. 10), notice is hereby given the Secretary of Agriculture's intent to solicit members. Additional information on the Pacific Northwest Region Recreation RAC can be found by visiting the committee website at https://www.fs.usda.gov/main/r6/workingtogether/advisorycommittees.

Pacific Northwest Region Recreation RAC Membership

The Pacific Northwest Region Recreation RAC will be comprised of 11 members approved by the Secretary of Agriculture where each member will serve a two or three-year term. Memberships shall include representation from the following interest areas:

1. Five persons who represent:

a. Winter motorized recreation such as snowmobiling;

b. Winter non-motorized recreation such cross-country skiing or snowshoeing;

c. Summer motorized recreation such as motorcycling, boating, and off-highway vehicle driving;

d. Summer non-motorized recreation such as hiking, horseback riding, mountain biking, canoeing, and rafting; and

e. Hunting and fishing.

2. Three persons who represent:

a. Motorized outfitters and guides;

b. Non-motorized outfitters and guides; and

c. Local environmental groups.

3. Three persons who represent:

a. State tourism official representing the State;

b. A representative of affected Indian tribes; and

c. A representative of affected local government interests.

Membership Nomination Information

The appointment of members to the Pacific Northwest Region Recreation RAC will be made by the Secretary of Agriculture, or their designee. Any interested person or organization may nominate qualified individuals for membership. Interested candidates may nominate themselves. Individuals who wish to be considered for membership on the committee must submit a nomination with information, including a background disclosure form (Form AD-755; https://www.usda.gov/sites/default/files/documents/ad-755.pdf). Nominations should be typed and include the following information:

1. If nominating an individual, a brief summary, no more than two pages, explaining the nominee's qualifications to serve on the committee and addressing the membership composition and criteria described above.

2. A resume providing the nominee's background, experience, and educational qualifications.

3. A completed background disclosure form (Form AD-755) signed by the nominee.

4. Letters of endorsement are optional.

Persons with disabilities who require alternative means of communication for program information (Braille, large print, audiotape, American Sign Language, etc.) should contact the responsible Agency or USDA's TARGET Center at 202-720-2600 (voice and TTY) or contact USDA through the Federal Relay Service at 800-877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

Dated: May 29, 2024.
Cikena Reid,
USDA Committee Management Officer.

[FR Doc. 2024-12126 Filed 6-3-24; 8:45 am]

BILLING CODE 3411-15-P